DEPARTMENT OF COMMERCE

International Trade Administration

[C-557-831]

Crystalline Silicon Photovoltaic Cells, Whether or Not Assembled Into Modules, From Malaysia: Amended Preliminary Determination of Countervailing Duty Investigation; Correction

AGENCY: Enforcement and Compliance, International Trade Administration, Department of Commerce.

ACTION: Notice; correction.

SUMMARY: The U.S. Department of Commerce (Commerce) published a notice in the Federal Register of November 7, 2024, in which Commerce amended the preliminary affirmative countervailing duty (CVD) determination on crystalline silicon photovoltaic cells, whether or not assembled into modules (solar cells), from Malaysia. This notice incorrectly stated that the amended cash deposit rates would be effective retroactively to October 4, 2024, the date of the publication of the Preliminary Determination.

FOR FURTHER INFORMATION CONTACT: Scarlet Jaldin, AD/CVD Operations, Office VI, Enforcement and Compliance, International Trade Administration, U.S. Department of Commerce, 1401 Constitution Avenue NW, Washington, DC 20230; telephone: (202) 482-4275.

SUPPLEMENTARY INFORMATION:

Background

On November 7, 2024, Commerce published in the Federal Register the amended preliminary determination of the CVD investigation on solar cells from Malaysia.¹ In the “Amended Cash Deposits and Suspension of Liquidation” section, we incorrectly stated that because the amended rates for Jinko Solar, all-others, and non-responsive companies resulted in increased cash deposits, they would be effective retroactively to October 4, 2024, the date of the publication of the Preliminary Determination.

¹ See Crystalline Silicon Photovoltaic Cells, Whether or Not Assembled Into Modules, from Malaysia: Amended Preliminary Determination of Countervailing Duty Investigation, 89 FR 88232 (November 7, 2024).

Correction

In the Federal Register of November 7, 2024, in FR Doc 2024-25872, at 89 FR 88233, in the third column, correct the text in the second sentence of the section, “Amended Cash Deposits and Suspension of Liquidation” by removing and replacing it with “Because the amended rates for Jinko Solar, all-others, and non-responsive companies result in increased cash deposits, they will be effective on the date of the publication of this amended preliminary determination.”

Notification to Interested Parties

This notice is issued and published in accordance with sections 703(f) and 777(i) of the Tariff Act of 1930, as amended, and 19 CFR 351.224(e).

Dated: November 19, 2024.
Abdelali Elouaradia,
Deputy Assistant Secretary for Enforcement and Compliance.

[FR Doc. 2024-27493 Filed 11-22-24; 8:45 am]

BILLING CODE 3510-DS-P